FEDERAL COMMUNICATIONS COMMISSION

Notice of Public Information Collection(s) Being Reviewed by the Federal Communications Commission

February 9, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 24, 2005. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION:

OMB Control No.: 3060-0395.

Title: The ARMIS USOA Report (ARMIS Report 43-02); the ARMIS Service Quality Report (ARMIS Report 43-05); and the ARMIS Infrastructure Report (ARMIS Report 43-07).

Report Nos: FCC Reports 43-02, 43-05 and 43-07.

Type of Review: Extension of a currently approved collection.

Respondents: Business or other for-profit.

Number of Respondents: 50.

Estimated Time Per Response: 5.7—844 hours.

Frequency of Response: Annual reporting requirement and recordkeeping requirement.

Total Annual Burden: 20,754 hours.

Total Annual Cost: Not Applicable.

Privacy Act Impact Assessment: Not applicable.

Needs and Uses: FCC Report 43-02 contains company-wide data for each account specified in the Uniform System of Accounts (USOA). It provides the annual operating results of the carriers' activities for every account in the USOA. The Commission uses an indexed revenue threshold to determine which carriers are required to file the ARMIS reports. The revenue threshold for mid-sized carriers is currently $123 million. In this report, there are no changes to the report; however, we are adjusting the numbers of carriers filing this ARMIS report from 29 respondents to 28 to reflect one carrier that fell below the revenue threshold. ARMIS Report 43-05 collects data at the study level and holding company level and is designed to capture trends in service quality information in the areas of service quality under price cap regulation. It provides service quality information in the areas of interexchange access service installation and repair intervals, local service installation and repair intervals, trunk blockage, and total switch downtime for price cap companies. ARMIS Report 43-07 is designed to capture trends in telephone industry infrastructure development under price cap regulation. It provides switch deployment and capabilities data. There are no changes to ARMIS Reports 43-05 and 43-07.

OMB Control No.: 3060-0410.

Title: Forecast of Investment Usage Report and Actual Usage of Investment Report.

Report Nos: FCC Reports 495A and 495B.

Type of Review: Extension of a currently approved collection.

Respondents: Business or other for-profit.

Number of Respondents: 97 respondents; 194 responses.

Estimated Time Per Response: 40 hours.

Frequency of Response: Annual reporting requirement.

Total Annual Burden: 7,760 hours.

Total Annual Cost: Not Applicable.

Privacy Act Impact Assessment: Not applicable.

Needs and Uses: The information in these two reports provides the necessary detail to enable the Commission to fulfill it regulatory responsibility. These reports ensure that the regulated operation of the carriers do not subsidize the nonregulated operations of those same carriers. The FCC Reports 495A and 495B are each filed once a year. The 495A Report provides the forecast and resulting investment allocation incorporated in a carrier's cost support for its access tariff. The 495B Report enables the Commission's staff to monitor actual and forecasted investment use. This data are also a part of the data necessary to support the Commission's audit and other oversight functions. Subsequent submissions correcting previously filed data are to be filed as soon as the correction is identified.

OMB Control No.: 3060-0496.

Title: The ARMIS Operating Data Report.

Report No: FCC Report 43-08.

Type of Review: Extension of a currently approved collection.

Respondents: Business or other for-profit.

Number of Respondents: 56.

Estimated Time Per Response: 139 hours.

Frequency of Response: Annual reporting requirement.

Total Annual Burden: 7,784 hours.

Total Annual Cost: Not Applicable.

Privacy Act Impact Assessment: Not applicable.

Needs and Uses: The ARMIS Report 43-08 collects network operating data in a consistent format. The report monitors network growth, usage, and reliability. The Commission uses an indexed revenue threshold to determine which carriers are required to file the ARMIS reports. The revenue threshold for mid-sized carriers is currently $123 million. In this collection, we are revising the number of carriers filing this ARMIS report from 55 to 56 to reflect two carriers that met the indexed revenue threshold and one carrier that fell below the threshold.

OMB Control No.: 3060-0511.

Title: ARMIS Access Report.

Report No: FCC Report 43-04.

Type of Review: Extension of a currently approved collection.

Respondents: Business or other for-profit.

Number of Respondents: 82.

Estimated Time Per Response: 153 hours.

Frequency of Response: Annual reporting requirement.

Total Annual Burden: 12,546 hours.

Total Annual Cost: Not Applicable.

Privacy Act Impact Assessment: Not applicable.

Needs and Uses: The ARMIS 43-04 provides jurisdictional separations and access charge data by Part 36 category of the Commission's rules and regulations. The ARMIS Report 43-04 monitors revenue requirements, joint cost allocations, jurisdictional separations and access charges. The Commission uses an indexed revenue threshold to determine which carriers are required to file the ARMIS reports. The revenue threshold for mid-sized carriers is currently $123 million. In this collection, we are revising the number of carriers filing this ARMIS report from 84 to 82 to reflect two carriers that fell below the revenue threshold.

OMB Control No.: 3060-0512.

Title: The ARMIS Annual Summary Report.

Report No: FCC Report 43-01.

Type of Review: Extension of a currently approved collection.

Respondents: Business or other for-profit.

Number of Respondents: 124.

Estimated Time Per Response: 89 hours.

Frequency of Response: Annual reporting requirement.

Total Annual Burden: 11,036 hours.

Total Annual Cost: Not Applicable.

Privacy Act Impact Assessment: Not applicable.

Needs and Uses: ARMIS Report 43-01 facilitates the annual collection of the results of accounting, rate base, and cost allocation requirements prescribed in Parts 32, 36, 64, 65, and 69 of the Commission's rules and regulations. The revenue threshold for mid-sized carriers is currently $123 million. In this collection, four mid-sized carriers reached the revenue threshold, three new mid-sized carriers were added, as a result of a company merger, and two mid-sized carriers were eliminated because they fell below the revenue threshold.

Federal Communications Commission.
Marlene H. Dortch,
Secretary.

[FR Doc. 05-3320 Filed 2-18-05; 8:45 am]

BILLING CODE 6712-01-P